DEPARTMENT OF ENERGY

Federal Energy Regulatory Commission

Combined Notice of Filings #1

Take notice that the Commission received the following electric rate filings:

Docket Numbers: ER10-2042-054; ER10-1858-013; ER10-1862-047; ER10-1863-015; ER10-1865-020; ER10-1870-013; ER10-1871-014; ER10-1873-022; ER10-1875-022; ER10-1876-023; ER10-1877-012; ER10-1878-022; ER10-1883-022; ER10-1884-022; ER10-1885-022; ER10-1888-022; ER10-1889-013; ER10-1893-047; ER10-1895-013; ER10-1934-047; ER10-1938-048; ER10-1941-022; ER10-1942-045; ER10-1944-013; ER10-1947-023; ER10-2029-017; ER10-2036-016; ER10-2040-015; ER10-2041-015; ER10-2043-015; ER10-2044-015; ER10-2051-015; ER10-2985-051; ER10-3049-052; ER10-3051-052; ER10-3260-015; ER11-4369-032; ER12-1987-020; ER12-2261-021; ER12-2645-015; ER13-1401-013; ER13-1407-017; ER14-2931-013; ER16-2218-033; ER17-696-033; ER18-1321-008; ER19-1127-012; ER20-1699-010; ER20-1939-006; ER23-944-010; ER24-15-002.

Applicants: Nova Power, LLC, Calpine Community Energy, LLC, Calpine Northeast Develop.m.ent, LLC, Johanna Energy Center, LLC, Calpine King City Cogen, LLC, Calpine Mid-Merit II, LLC, Calpine Energy Solutions, LLC, North American Power Business, LLC, Calpine Fore River Energy Center, LLC, CCFC Sutter Energy, LLC, Westbrook Energy Center, LLC, Pastoria Energy Facility L.L.C., Russell City Energy Company, LLC,O.L.S. Energy-Agnews, Inc., North American Power and Gas, LLC, Granite Ridge Energy, LLC, Champion Energy, LLC, Champion Energy Services, LLC, Champion Energy Marketing LLC, Calpine Bethlehem, LLC, Zion Energy LLC, Calpine Mid-Atlantic Generation, LLC, Calpine Mid Merit, LLC, Calpine New Jersey Generation, LLC, Calpine Vineland Solar, LLC, Calpine Mid-Atlantic Marketing, LLC, Otay Mesa Energy Center, LLC, Bethpage Energy Center 3, LLC ,Calpine Construction Finance Co., L.P., Calpine Gilroy Cogen, L.P., Calpine Power America—CA, LLC,CES Marketing IX, LLC,KIAC Partners, CES Marketing X, LLC,CPN Bethpage 3rd Turbine, Inc., Creed Energy Center, LLC, Delta Energy Center, LLC, Geysers Power Company, LLC, Gilroy Energy Center, LLC, Goose Haven Energy Center, LLC, Hermiston Power, LLC, Los Esteros Critical Energy Facility, LLC, Los Medanos Energy Center LLC, Metcalf Energy Center, LLC, Morgan Energy Center, LLC, Nissequogue Cogen Partners, South Point Energy Center, LLC, Pine Bluff Energy, LLC, Power Contract Financing, L.L.C.,TBG Cogen Partners, Calpine Energy Services, L.P.

Description: Notice of Change in Status of Calpine Energy Services, L.P., et al.

Filed Date: 10/31/24.

Accession Number: 20241031-5417.

Comment Date: 5 p.m. ET 11/21/24.

Docket Numbers: ER10-2475-034; ER10-1520-018; ER10-1521-018; ER10-2474-033; ER10-3246-027; ER13-1266-052; ER15-2211-049; ER20-2493-013; ER22-1385-012; ER23-674-008; ER23-676-008; ER24-1587-001.

Applicants: AlbertaEx, L.P., BHE Power Watch, LLC, BHE Wind Watch, LLC, BHER Market Operations, LLC., OTCF, LLC, MidAmerican Energy Services, LLC, CalEnergy, LLC, PacifiCorp, Sierra Pacific Power Company, Occidental Power Marketing, L.P., Occidental Power Services, Inc., Nevada Power Company.

Description: Notice of Non-Material Change in Status of Nevada Power Company, et al.

Filed Date: 10/31/24.

Accession Number: 20241031-5409.

Comment Date: 5 p.m. ET 11/21/24.

Docket Numbers: ER10-2727-010; ER10-1451-012; ER10-1467-013; ER10-1469-012; ER10-1473-013; ER10-1474-013; ER10-1478-015; ER10-2687-012; ER10-2688-015; ER10-2689-016; ER10-2728-014; ER11-3907-006; ER24-172-004.

Applicants: FirstEnergy Pennsylvania Electric Company, The Toledo Edison Company, Green Valley Hydro, LLC, West Penn Power Company, The Potomac Edison Company, Monongahela Power Company, Pennsylvania Electric Company, Metropolitan Edison Company, Pennsylvania Power Company, The Cleveland Electric Illuminating Company, Ohio Edison Company, Jersey Central Power & Light, Allegheny Energy Supply Company, LLC.

Description: Notice of Non-Material Change in Status of Allegheny Energy Supply Company, LLC et al.

Filed Date: 10/31/24.

Accession Number: 20241031-5414.

Comment Date: 5 p.m. ET 11/21/24.

Docket Numbers: ER15-1494-004; ER10-1403-002; ER13-1793-017; ER21-9-008; ER21-86-008; ER21-88-008; ER22-541-002; ER22-542-002; ER22-543-003; ER22-544-002; ER22-545-002; ER24-750-003; ER24-1980-002; ER24-1981-002; ER24-1983-002.

Applicants: West Warwick Energy Storage 3 LLC, West Warwick Energy Storage 2 LLC, West Warwick Energy Storage 1 LLC, Town Hill Energy Storage 1 LLC, NSF Chaumont Site 5 LLC, Bracewell LLP, NSF Chaumont Site 4 LLC, Bracewell LLP, NSF Chaumont Site 3 LLC, Bracewell LLP, NSF Chaumont Site 2 LLC, Bracewell LLP, NSF Chaumont Site 1 LLC, Bracewell LLP, Orange County Energy Storage 3 LLC, Orange County Energy Storage 2 LLC, Henrietta D Energy Storage LLC, Hazle Spindle, LLC, Stephentown Regulation Services LLC, Convergent Energy and Power Inc.

Description: Notice of Non-Material Change in Status of Convergent Energy and Power LP, et al.

Filed Date: 10/31/24.

Accession Number: 20241031-5415.

Comment Date: 5 p.m. ET 11/21/24.

Docket Numbers: ER18-1534-014; ER10-1852-098; ER10-1951-072; ER11-4462-096; ER17-838-070; ER18-1535-013; ER20-2012-009; ER22-1454-004; ER22-2706-005; ER24-26-002; ER24-1816-001.

Applicants: High River Energy Center, LLC, East Point Energy Center, LLC, Eight Point Wind, LLC, LI Solar Generation, LLC, Orbit Bloom Energy, LLC, Montauk Energy Storage Center, LLC, NextEra Energy Marketing, LLC, NEp.m. II, LLC, NextEra Energy Services Massachusetts, LLC, Florida Power & Light Company, East Hampton Energy Storage Center, LLC.

Description: Notice of Change in Status of East Hampton Energy Storage Center, LLC, et al.

Filed Date: 10/31/24.

Accession Number: 20241031-5413.

Comment Date: 5 p.m. ET 11/21/24.

Docket Numbers: ER23-1851-010.

Applicants: PJM Interconnection, L.L.C.

Description: Tariff Amendment: Amended ISA & CSA, SA Nos. 6917 & 6918; Queue No. AD1-031 to be effective 1/6/2025.

Filed Date: 11/6/24.

Accession Number: 20241106-5121.

Comment Date: 5 p.m. ET 11/27/24.

Docket Numbers: ER24-3030-001.

Applicants: Panther Creek Power Operating, LLC.

Description: Compliance filing: Panther Creek Supplemental filing November 6 to be effective N/A.

Filed Date: 11/6/24.

Accession Number: 20241106-5118.

Comment Date: 5 p.m. ET 11/27/24.

Docket Numbers: ER25-375-000.

Applicants: Westlands Transmission, LLC.

Description: Tariff Amendment: Cancellation of TSA w/Aquamarine Westside, LLC to be effective 12/31/9998.

Filed Date: 11/6/24.

Accession Number: 20241106-5000.

Comment Date: 5 p.m. ET 11/27/24.

Docket Numbers: ER25-376-000.

Applicants: Westlands Transmission, LLC.

Description: Tariff Amendment: Cancellation of Supp. to TSA w/Aquamarine Westside, LLC to be effective 12/31/9998.

Filed Date: 11/6/24.

Accession Number: 20241106-5001.

Comment Date: 5 p.m. ET 11/27/24.

Docket Numbers: ER25-377-000.

Applicants: Westlands Transmission, LLC.

Description: Tariff Amendment: Cancellation of TSA w/Castanea Project, LLC to be effective 12/31/9998.

Filed Date: 11/6/24.

Accession Number: 20241106-5002.

Comment Date: 5 p.m. ET 11/27/24.

Docket Numbers: ER25-378-000.

Applicants: Westlands Transmission, LLC.

Description: Tariff Amendment: Cancellation of TSA w/Westlands Cherry, LLC to be effective 12/31/9998.

Filed Date: 11/6/24.

Accession Number: 20241106-5003.

Comment Date: 5 p.m. ET 11/27/24.

Docket Numbers: ER25-379-000.

Applicants: Westlands Transmission, LLC.

Description: Tariff Amendment: Cancellation of TSA w/Westlands Grape, LLC to be effective 12/31/9998.

Filed Date: 11/6/24.

Accession Number: 20241106-5004.

Comment Date: 5 p.m. ET 11/27/24.

Docket Numbers: ER25-380-000.

Applicants: Westlands Transmission, LLC.

Description: Tariff Amendment: Cancellation of TSA w/Westlands Solar Blue (OZ) Owner, LLC to be effective 12/31/9998.

Filed Date: 11/6/24.

Accession Number: 20241106-5005.

Comment Date: 5 p.m. ET 11/27/24.

Docket Numbers: ER25-381-000.

Applicants: Alabama Power Company, Georgia Power Company, Mississippi Power Company.

Description: 205(d) Rate Filing: Alabama Power Company submits tariff filing per 35.13(a)(2)(iii: Greening (Alhambra Solar) LGIA Filing to be effective 11/1/2024.

Filed Date: 11/6/24.

Accession Number: 20241106-5007.

Comment Date: 5 p.m. ET 11/27/24.

Docket Numbers: ER25-382-000.

Applicants: Southwest Power Pool, Inc.

Description: 205(d) Rate Filing: 4312 Pixley Solar Energy LLC Meter Agent Agreement to be effective 12/1/2024.

Filed Date: 11/6/24.

Accession Number: 20241106-5056.

Comment Date: 5 p.m. ET 11/27/24.

Docket Numbers: ER25-383-000.

Applicants: PJM Interconnection, L.L.C.

Description: 205(d) Rate Filing: Original NSA, Service Agreement No. 7409; AC1-082 to be effective 1/6/2025.

Filed Date: 11/6/24.

Accession Number: 20241106-5066.

Comment Date: 5 p.m. ET 11/27/24.

Docket Numbers: ER25-384-000.

Applicants: Public Service Company of Colorado.

Description: Initial rate filing: 2024-11-06—PSC-SLVREC—Const—Waverly to San Acacio—777—0.0.0 to be effective 1/5/2025.

Filed Date: 11/6/24.

Accession Number: 20241106-5092.

Comment Date: 5 p.m. ET 11/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 6, 2024.
Debbie-Anne A. Reese,
Secretary.

[FR Doc. 2024-26398 Filed 11-13-24; 8:45 am]

BILLING CODE 6717-01-P